COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before May 1, 2015.

ADDRESSES: Comments may be submitted directly to OMB within 30 days of the notice's publication, by email at OIRAsubmissions@omb.eop.gov. Please identify comments by “Swap Data Repositories; Registration and Reporting Requirements (OMB Control No. 3038-0086).” Please provide the Commission with a copy of all submitted comments at the address listed below. Please refer to OMB Reference No. 3038-0086, found on http://reginfo.gov. Comments may also be mailed to the Office of Information and Regulatory Affairs, Office of Management and Budget, Attention: Desk Officer for the Commodity Futures Trading Commission, 725 17th Street NW., Washington, DC 20503, and Benjamin DeMaria, Division of Market Oversight, U.S. Commodity Futures Trading Commission, Three Lafayette Centre, 1155 21st Street NW., Washington, DC 20581.

Comments may also be submitted, regarding the burden estimated or any other aspect of the information collection, including suggestions for reducing the burden, identified by “Swap Data Repositories; Registration and Reporting Requirements (OMB Control No. 3038-0086)”, by any of the following methods:

• Agency Web site, via its Comments Online process: http://comments.cftc.gov. Follow the instructions for submitting comments through the Web site.

• Mail: Send to Christopher Kirkpatrick, Secretary of the Commission, Commodity Futures Trading Commission, Three Lafayette Centre, 1155 21st Street NW., Washington, DC 20581.

• Hand Delivery/Courier: Same as Mail, above.

• Federal eRulemaking Portal: http://www.regulations.gov/. Follow the instructions for submitting comments. Please submit your comments to the Commission using only one of these methods.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.¹

¹ Commission regulations referred to herein are found at 17 CFR Ch. I. (2014).

The Commission reserves the right, but shall have no obligation, to review, pre-screen, filter, redact, refuse or remove any or all of your submission from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Benjamin DeMaria, Division of Market Oversight, U.S. Commodity Futures Trading Commission, Three Lafayette Centre, 1155 21st Street NW., Washington, DC 20581; (202) 418-5988; email: BDeMaria@cftc.gov, and refer to OMB Control No. 3038-0086. This contact can also provide a copy of the ICR.

SUPPLEMENTARY INFORMATION: Title: “Swap Data Repositories; Registration and Reporting Requirements (OMB Control No. 3038-0086).” This is a request for renewal of a currently approved information collection.

Abstract: Section 728 of the Dodd-Frank Wall Street Reform and Consumer Protection Act, Public Law 111-203, 124 Stat. 1376 (2010), specifically requires the CFTC to establish certain standards for the governance, registration, and statutory duties applicable to Swap Data Repositories (SDRs). The CFTC established these standards in part 49 of the CFTC's regulations.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on January 26, 2015 (80 FR 3956). No responsive comments have been received.

Burden statement: The CFTC estimates that the total annual respondent burden is:

Registration

Respondents/Affected Entities: Swap Data Repositories.

Estimated number of respondents: 6

Estimated burden per respondent: 400 hours initially, 45 hours ongoing, 5 hours total for all respondents annually for deregistration.

Frequency of collection: Annual and occasional.

Total annual respondent burden: 2400 hours initially, 275 ² hours ongoing.

² Five hours is being added here to the total annual ongoing burden for registration that was not included in the 60-day notice of the renewal for collection 3038-0086 (80 FR 3956, Jan. 26, 2015) to reflect the estimate that one registered SDR may deregister every two years. The burden to deregister is estimated at 10 hours per deregistering entity. The total annual ongoing burden for all SDRs for registration is now estimated to be 275 hours.

Reporting

Respondents/Affected Entities: Swap Data Repositories.

Estimated number of respondents: 6.

Estimated burden per respondent: 40,725 hours initially; 15,325 hours ongoing.

Frequency of collection: Ongoing.

Total annual respondent burden: 244,350 hours initially; 91,950 hours ongoing.

Recordkeeping

Respondents/Affected Entities: Swap Data Repositories.

Estimated number of respondents: 6.

Estimated burden per respondent: 300 hours initially, 254 hours ongoing.

Frequency of collection: Ongoing.

Total annual respondent burden: 1800 hours initially, 1524 hours ongoing.

Disclosure

Respondents/Affected Entities: Swap Data Repositories.

Estimated number of respondents: 6.

Estimated burden per respondent: 100 hours initially, 1 hour ongoing.

Frequency of collection: Occasional.

Total annual respondent burden: 600 hours initially, 6 hours ongoing.

Authority: 44 U.S.C. 3501 et seq.

Dated: March 27, 2015.
Christopher J. Kirkpatrick,
Secretary of the Commission.

[FR Doc. 2015-07468 Filed 3-31-15; 8:45 am]

BILLING CODE 6351-01-P